DEPARTMENT OF LABOR

Employment and Training Administration

[NAFTA-6022]

Motorola, SDS, BMC, Mesa, Arizona; Notice of Termination of Investigation

Pursuant to Title V of the North American Free Trade Agreement Implementation Act (P.L. 103-182) concerning transitional adjustment assistance, hereinafter called (NAFTA-TAA), and in accordance with Section 250(a), Subchapter D, Chapter 2, Title II, of the Trade Act of 1974, as amended (19 USC 2273), an investigation was initiated on March 25, 2002, in response to a petition filed on behalf of workers at Motorola, SDS, BMC, Mesa, Arizona.

The petition has been deemed invalid. The three petitioners were separated from the subject firm more than one year prior to the date of the petition. Consequently, further investigation in this case would serve no purpose, and the investigation has been terminated.

Signed in Washington, DC this 13th day of August 2002.
Linda G. Poole,
Certifying Officer, Division of Trade Adjustment Assistance.

[FR Doc. 02-21334 Filed 8-20-02; 8:45 am]

BILLING CODE 4510-30-P